DEPARTMENT OF HEALTH AND HUMAN SERVICES

Administration for Children and Families

Modification to the Standing Announcement for Services to Recently Arrived Refugees

AGENCY: Office of Refugee Resettlement (ORR), Administration for Children and Families (ACF), DHHS.

ACTION: Notice of modification.

SUMMARY: The Office of Refugee Resettlement Standing Announcement “ORR Standing Announcement for Services to Recently Arrived Refugees” (66 FR 23705), issued May 9, 2001 in the Federal Register is hereby modified to reflect a revision to Category 3 “Services for Arriving Refugees with Special Conditions or Victims of Trafficking.” Category 3 is now revised to pertain exclusively to “Services for Arriving Refugees with Special Conditions.” All references to “Services for Victims of Trafficking” in this Category 3 are no longer applicable. All other information in Category 3 (i.e. closing dates, grant application requirements, etc.) remains unchanged.

A new Standing Announcement for Victims of a Severe Form of Trafficking will be forthcoming from ORR at a future date. Organizations seeking discretionary grant funding for victims of a severe form of trafficking will have the opportunity at that time to submit new applications.

These changes are effective February 8, 2002.

For further information, please contact Neil Kromash, Office of Refugee Resettlement, telephone: 202-401-5702 or Jay Womack, Office of Refugee Resettlement, telephone: 202-401-5525.

Dated: February 1, 2002.
Nguyen Van Hanh,
Director, Office of Refugee Resettlement.

[FR Doc. 02-3062 Filed 2-7-02; 8:45 am]

BILLING CODE 4184-01-M